FEDERAL HOUSING FINANCE BOARD

[No. 2004-N-12]

Federal Home Loan Bank Members Selected for Community Support Review

AGENCY: Federal Housing Finance Board.

ACTION: Notice.

SUMMARY: The Federal Housing Finance Board (Finance Board) is announcing the Federal Home Loan Bank (Bank) members it has selected for the 2004-05 fourth quarter review cycle under the Finance Board's community support requirements regulation. This notice also prescribes the deadline by which Bank members selected for review must submit Community Support Statements to the Finance Board.

DATES: Bank members selected for the review cycle under the Finance Board's community support requirements regulation must submit completed Community Support Statements to the Finance Board on or before March 4, 2005.

ADDRESSES: Bank members selected for the 2004-05 fourth quarter review cycle under the Finance Board's community support requirements regulation must submit completed Community Support Statements to the Finance Board either by regular mail at the Federal Housing Finance Board, Office of Supervision, Community Investment and Affordable Housing, 1777 F Street, NW., Washington, DC 20006, or by electronic mail at FITZGERALDE@FHFB.GOV.

FOR FURTHER INFORMATION CONTACT: Emma J. Fitzgerald, Program Analyst, Office of Supervision, Community Investment and Affordable Housing, by telephone at (202) 408-2874, by electronic mail at FITZGERALDE@FHFB.GOV, or by regular mail at the Federal Housing Finance Board, 1777 F Street, NW., Washington, DC 20006.

SUPPLEMENTARY INFORMATION:

I. Selection for Community Support Review

Section 10(g)(1) of the Federal Home Loan Bank Act (Bank Act) requires the Finance Board to promulgate regulations establishing standards of community investment or service Bank members must meet in order to maintain access to long-term advances. See 12 U.S.C. 1430(g)(1). The regulations promulgated by the Finance Board must take into account factors such as the Bank member's performance under the Community Reinvestment Act of 1977 (CRA), 12 U.S.C. 2901 et seq., and record of lending to first-time homebuyers. See 12 U.S.C. 1430(g)(2). Pursuant to section 10(g) of the Bank Act, the Finance Board has promulgated a community support requirements regulation that establishes standards a Bank member must meet in order to maintain access to long-term advances, and review criteria the Finance Board must apply in evaluating a member's community support performance. See 12 CFR part 944. The regulation includes standards and criteria for the two statutory factors—CRA performance and record of lending to first-time homebuyers. 12 CFR 944.3. Only members subject to the CRA must meet the CRA standard. 12 CFR 944.3(b). All members, including those not subject to CRA, must meet the first-time homebuyer standard. 12 CFR 944.3(c).

Under the rule, the Finance Board selects approximately one-eighth of the members in each Bank district for community support review each calendar quarter. 12 CFR 944.2(a). The Finance Board will not review an institution's community support performance until it has been a Bank member for at least one year. Selection for review is not, nor should it be construed as, any indication of either the financial condition or the community support performance of the member.

Each Bank member selected for review must complete a Community Support Statement and submit it to the Finance Board by the March 4, 2005 deadline prescribed in this notice. 12 CFR 944.2(b)(1)(ii) and (c). On or before January 31, 2005, each Bank will notify the members in its district that have been selected for the 2004-05 fourth quarter community support review cycle that they must complete and submit to the Finance Board by the deadline a Community Support Statement. 12 CFR 944.2(b)(2)(i). The member's Bank will provide a blank Community Support Statement Form, which also is available on the Finance Board's Web site: http://www.fhfb.gov. Upon request, the member's Bank also will provide assistance in completing the Community Support Statement.

The Finance Board has selected the following members for the 2004-05 fourth quarter community support review cycle:

Federal Home Loan Bank of Boston—District 1
Union Savings Bank | Danbury | CT
Jewett City Savings Bank | Jewett City | CT
The First National Bank of Litchfield | Litchfield | CT
Naugatuck Valley Savings and Loan | Naugatuck | CT
New Alliance Bank | New Haven | CT
Newtown Savings Bank | Newtown | CT
Fairfield County Bank-Corp | Ridgefield | CT
First County Bank | Stamford | CT
Patriot National Bank | Stamford | CT
Cornerstone Bank | Stamford | CT
Dutch Point Credit Union | Wethersfield | CT
Windsor Locks Federal Credit Union | Windsor Locks | CT
Northeast Bank FSB | Auburn | ME
Bangor Federal Credit Union | Bangor | ME
Bangor Savings Bank | Bangor | ME
Bar Harbor Savings & Loan Association | Bar Harbor | ME
First Citizens Bank | Presque Isle | ME
York County Federal Credit Union | Sanford | ME
North Abington Co-operative Bank | Abington | MA
South Adams Savings Bank | Adams | MA
Athol Credit Union | Athol | MA
Barre Savings Bank | Barre | MA
Crescent Credit Union | Brockton | MA
Brookline Bank | Brookline | MA
Boston Federal Savings Bank | Burlington | MA
Cambridge Trust Company | Cambridge | MA
North Cambridge Co-operative Bank | Cambridge | MA
Canton Co-Operative Bank | Canton | MA
Meetinghouse Cooperative Bank | Dorchester | MA
Edgartown National Bank | Edgartown | MA
Fitchburg Savings Bank, FSB | Fitchburg | MA
Fidelity Cooperative Bank | Fitchburg | MA
Greenfield Co-operative Bank | Greenfield | MA
Haverhill Co-operative Bank | Haverhill | MA
Ipswich Co-operative Bank | Ipswich | MA
Leominster Credit Union | Leominster | MA
Lowell Co-operative Bank | Lowell | MA
Marlborough Savings Bank | Marlborough | MA
The Milford National Bank & Trust Co | Milford | MA
Natick Federal Savings Bank | Natick | MA
Inst. for Svgs in Newburyport & its Vicinity | Newburyport | MA
South Coastal Bank | Rockland | MA
Rockland Federal Credit Union | Rockland | MA
The Cooperative Bank | Roslindale | MA
Heritage Co-operative Bank | Salem | MA
Salem Five Cents Savings Bank | Salem | MA
Taupa Lithuanian Federal Credit Union | South Boston | MA
Southbridge Credit Union | Southbridge | MA
Stoneham Savings Bank | Stoneham | MA
Country Bank for Savings | Ware | MA
Wellesley Co-operative Bank | Wellesley | MA
South Shore Co-operative Bank | Weymouth | MA
Winchester Cooperative Bank | Winchester | MA
Bay State Savings Bank | Worcester | MA
Cape Cod Cooperative Bank | Yarmouth Port | MA
Centrix Bank & Trust | Bedford | NH
The Berlin City Bank | Berlin | NH
Village Bank & Trust Company | Gilford | NH
Granite Bank | Keene | NH
Lancaster National Bank | Lancaster | NH
Profile Bank | Rochester | NH
Holy Rosary Regional Credit Union | Rochester | NH
Bank of Newport | Middletown | RI
Citizens Bank of Rhode Island | Providence | RI
Greenwood Credit Union | Warwick | RI
Westerly Savings Bank | Westerly | RI
Brattleboro Savings & Loan Assn. FA | Brattleboro | VT
Lyndonville Savings Bank & Trust Co | Lyndonville | VT
First Community Bank | Woodstock | VT
Federal Home Loan Bank of New York—District 2
Cape Savings Bank | Cape May Court House | NJ
United Roosevelt Savings Bank | Carteret | NJ
Commerce Bank, N.A | Cherry Hill | NJ
Unity Bank | Clinton | NJ
1st Constitution Bank | Cranbury | NJ
Delanco Federal Savings Bank | Delanco | NJ
Pinnacle Federal Credit Union | Edison | NJ
Columbia Bank | Fair Lawn | NJ
Haven Savings Bank | Hoboken | NJ
Manasquan Savings Bank | Manasquan | NJ
Susquehanna Patriot Bank | Marlton | NJ
1st Bank of Sea Isle City | Sea Isle City | NJ
Somerset Valley Bank | Somerville | NJ
Union Center National Bank | Union | NJ
Wawel Savings Bank, SLA | Wallington | NJ
Crest Savings Bank | Wildwood | NJ
Bridgehampton National Bank | Bridgehampton | NY
Atlas Savings and Loan Association | Brooklyn | NY
Visions Federal Credit Union | Endicott | NY
Tompkins Trust Company | Ithaca | NY
The National Union Bank of Kinderhook | Kinderhook | NY
Mid-Hudson Valley Federal Credit Union | Kingston | NY
Medina Savings and Loan Association | Medina | NY
Emigrant Savings Bank | New York | NY
Isreal Discount Bank of New York | New York | NY
NBT Bank, N.A | Norwich | NY
The Oneida Savings Bank | Oneida | NY
Suffolk County National Bank | Riverhead | NY
Adirondack Bank, N.A | Saranac Lake | NY
Sawyer Savings Bank | Saugerties | NY
Bank of Smithtown | Smithtown | NY
Walden Federal Savings and Loan Assn | Walden | NY
Fourth Federal Savings Bank | White Plains | NY
First Central Savings Bank | Whitestone | NY
City and Suburban Federal Savings Bank | Yonkers | NY
Banco Bilbao Vizcaya Argentaria PR | Hato Rey | PR
Westernbank Puerto Rico | Mayaguez | PR
Federal Home Loan Bank of Pittsburgh—District 3
Christiana Bank & Trust Company | Greenville | DE
ING Bank, FSB | Wilmington | DE
First National Bank of Wyoming | Wyoming | DE
Commerce Bank/Pennsylvania, N.A | Cherry Hill | NJ
American Bank | Allentown | PA
Iron Workers Bank | Aston | PA
Brentwood Bank | Bethel Park | PA
National Penn Bank | Boyertown | PA
Union Building & Loan Savings Bank | Bridgewater | PA
Citizens National Bank of Evans City PA | Butler | PA
Community Bank & Trust Co. | Clarks Summit | PA
Clearfield Bank & Trust Company | Clearfield | PA
First Financial Bank | Downingtown | PA
Vartan National Bank | Harrisburg | PA
The Dime Bank | Honesdale | PA
Indiana First Savings Bank | Indiana | PA
The Jim Thorpe National Bank | Jim Thorpe | PA
Manor National Bank | Manor | PA
First Citizens National Bank | Mansfield | PA
Province Bank FSB | Marietta | PA
The First National Bank of Marysville | Marysville | PA
Standard Bank | Monroeville | PA
American Heritage Federal Credit Union | Philadelphia | PA
The Philadelphia Trust Company | Philadelphia | PA
SB1 Federal Credit Union | Philadelphia | PA
New Century Bank | Phoenixville | PA
Allegheny Valley Bank of Pittsburgh | Pittsburgh | PA
PNC Bank, National Association | Pittsburgh | PA
Mt. Troy Bank | Pittsburgh | PA
GUARD Security Bank | Plains | PA
Somerset Trust Company | Somerset | PA
Union National Bank and Trust Company | Souderton | PA
Omega Bank N/A | State College | PA
ESSA Bank & Trust | Stroudsburg | PA
Compass Federal Savings Bank | Wilmerding | PA
Sovereign Bank FSB | Wyomissing | PA
Capital State Bank | Charleston | WV
Hancock County Savings Bank FSB | Chester | WV
Citizens National Bank | Elkins | WV
The Monongahela Valley Bank, Inc. | Fairmont | WV
Fayette County Nat'l Bank of Fayetteville | Fayetteville | WV
Rock Branch Community Bank | Nitro | WV
The Bank of Romney | Romney | WV
Traders Bank | Spencer | WV
Progressive Bank, N.A.—Wheeling | Wheeling | WV
Federal Home Loan Bank of Atlanta—District 4
America's First Federal Credit Union | Birmingham | AL
First Educators Credit Union | Birmingham | AL
First Bank of Boaz | Boaz | AL
Town-Country National Bank | Camden | AL
Coosa Pines Federal Credit Union | Childersburg | AL
Heritage Bank | Decatur | AL
Escambia County Bank | Flomaton | AL
First Federal Bank | Fort Payne | AL
Traders & Farmers Bank | Haleyville | AL
City Bank of Hartford | Hartford | AL
First National Bank of Jasper | Jasper | AL
Pinnacle Bank | Jasper | AL
Marion Bank and Trust Company | Marion | AL
Bank of Pine Hill | Pine Hill | AL
Merchants & Farmers Bank | Tuscaloosa | AL
Alabama Credit Union | Tuscaloosa | AL
First Federal Bank, FSB | Tuscaloosa | AL
Alabama Exchange Bank | Tuskegee | AL
AmeriFirst Bank | Union Springs | AL
Small Town Bank | Wedowee | AL
Bank of York | York | AL
Department of Veterans Affairs FCU | Washington | DC
Independence Federal Savings Bank | Washington | DC
Community National Bank of Bartow | Bartow | FL
Platinum Bank | Brandon | FL
Citizens & Peoples Bank, N.A | Cantonmont | FL
R-G Crown Bank | Casselberry | FL
First National Bank of Nassau County | Fernandian Beach | FL
Harbor Federal Savings Bank | Fort Pierce | FL
Citizens Bank & Trust | Frostproof | FL
Homosassa Springs Bank | Homosassa Springs | FL
Columbia County Bank | Lake City | FL
First Federal Savings Bank of Lake County | Leesburg | FL
First Southern Bank | Lighthouse Point | FL
Intercredit Bank, NA | Miami | FL
Pacific National Bank | Miami | FL
City National Bank of FLorida | Miami | FL
Interamerican Bank, FSB | Miami | FL
Northern Trust Bank of FLorida, N.A | Miami | FL
Metro Bank of Dade County | Miami | FL
Farmers and Merchants Bank | Monticello | FL
The First National Bank of Mount Dora | Mount Dora | FL
First Commercial Bank of FLorida | Orlando | FL
Fairwinds Credit Union | Orlando | FL
GulfStream Community Bank | Port Richey | FL
First Peoples Bank | Port St. Lucie | FL
Community Educators CU of Brevard | Rockledge | FL
SunCoast Bank | Sarasota | FL
Public Bank | St. Cloud | FL
Cornerstone Community Bank | St. Petersburg | FL
First Community Bank of America | St. Petersburg | FL
Union Bank of FLorida | Sunrise | FL
Terrace Bank | Tampa | FL
Valrico State Bank | Valrico | FL
Fidelity Federal Bank & Trust | West Palm Beach | FL
Grand Bank & Trust of FLorida | West Palm Beach | FL
The Perkins State Bank | Williston | FL
Albany Bank and Trust | Albany | GA
North Atlanta National Bank | Alpharetta | GA
Bank of North Georgia | Alpharetta | GA
United Americas Bank, N.A | Atlanta | GA
SunTrust Bank | Atlanta | GA
First Port City Bank | Bainbridge | GA
Peoples State Bank and Trust | Baxley | GA
Bank of Early | Blakely | GA
The Coastal Bank of Georgia | Brunswick | GA
West Georgia National Bank | Carrollton | GA
Unity National Bank | Cartersville | GA
Tippins Bank and Trust Company | Claxton | GA
Liberty National Bank | Conyers | GA
The Citizens Bank of Forsyth County | Cumming | GA
First Bank of Dalton | Dalton | GA
Alliance National Bank | Dalton | GA
Decatur First Bank | Decatur | GA
The Peachtree Bank | Duluth | GA
The Bank of Edison | Edison | GA
Community Banking Co. of Fitzgerald | Fitzgerald | GA
Colony Bank of Fitzgerald | Fitzgerald | GA
Farmers State Bank | Lumpkin | GA
Southern National Bank | Marietta | GA
Riverside Bank | Marietta | GA
The Security State Bank | McRae | GA
First Bank of Coastal Georgia | Pembroke | GA
First Peoples Bank | Pine Mountain | GA
Colony Bank Quitman, FSB | Quitman | GA
Citizens Bank of Washington County | Sandersville | GA
Bank of Hancock County | Sparta | GA
Eagle National Bank | Stockbridge | GA
Thomas County Federal S&L Association | Thomasville | GA
Stephens Federal Bank | Toccoa | GA
Bank of Dade | Trenton | GA
Altamaha Bank and Trust Company | Uvalda | GA
Commercial Banking Company | Valdosta | GA
Darby Bank and Trust Company | Vidalia | GA
Vidalia Federal Savings and Loan Assn | Vidalia | GA
Bank of Dooly | Vienna | GA
The Peoples Bank of Willacoochee | Willacoohee | GA
The Peoples Bank | Winder | GA
Talbot State Bank | Woodland | GA
Harford Bank | Aberdeen | MD
Municipal Employees CU of Baltimore | Baltimore | MD
Golden Prague FS&LA | Baltimore | MD
Madison Square Federal Savings Bank | Baltimore | MD
Hopkins Federal Savings Bank | Baltimore | MD
Arundel Federal Savings Bank | Baltimore | MD
Chesapeake Bank of Maryland | Baltimore | MD
Rosedale Federal Savings & Loan Assn | Baltimore | MD
Fairmount Federal Savings Bank | Baltimore | MD
Bay Net, A Community Bank | Bel Air | MD
Chevy Chase Bank, F.S.B | Bethesda | MD
Marriott Employees Federal Credit Union | Bethesda | MD
U.S. Postal Service Federal Credit Union | Clinton | MD
Suburban Federal Savings Bank | Crofton | MD
The Bank of Delmarva, N.A | Delmar | MD
The Patapsco Bank | Dundalk | MD
Farmers and Mechanics Bank | Frederick | MD
OBA Federal Savings Bank | Germantown | MD
Library of Congress Federal Credit Union | Hyattsville | MD
Maryland Permanent Bank and Trust | Owings Mills | MD
Senator Bank | Timonium | MD
Community Bank of Tri-County | Waldorf | MD
Woodsboro Bank | Woodsboro | MD
The Bank of Asheville | Asheville | NC
Asheville Savings Bank | Asheville | NC
First State Bank | Burlington | NC
Crescent State Bank | Cary | NC
Charlotte Metro Credit Union | Charlotte | NC
First Trust Bank | Charlotte | NC
Sharonview Federal Credit Union | Charlotte | NC
Cherryville Federal S&L Association | Cherryville | NC
First Federal Bank | Dunn | NC
Mutual Community Savings Bank, SSB | Durham | NC
North Carolina Community FCU | Goldsboro | NC
First Federal Savings Bank | Lincolnton | NC
Progressive State Bank | Lumberton | NC
Mooresville Savings Bank, SSB | Mooresville | NC
Lumbee Guarantee Bank | Pembroke | NC
Paragon Commercial Bank | Raleigh | NC
North Carolina Local Govt Employees CU | Raleigh | NC
Roanoke Valley Savings Bank, SSB | Roanoke Rapids | NC
Roxboro Savings Bank, SSB | Roxboro | NC
First South Bank | Washington | NC
WNC Community Credit Union | Waynesville | NC
Truliant Federal Credit Union | Winston-Salem | NC
Abbeville Savings and Loan Association | Abbeville | SC
Sentry Bank and Trust | Cheraw | SC
The Conway National Bank | Conway | SC
First Piedmont F&SL Assn. of Gaffney | Gaffney | SC
New Commerce Bank, NA | Greenville | SC
First Savers Bank | Greenville | SC
S.C. Telco Federal Credit Union | Greenville | SC
Citizens Building and Loan Association | Greer | SC
Mutual Savings Bank | Hartsville | SC
The Commercial Bank | Honea Path | SC
Founders Federal Credit Union | Lancaster | SC
First Community Bank, N.A | Lexington | SC
Pee Dee Federal Savings Bank | Marion | SC
Coastal Federal Bank | Myrtle Beach | SC
South Carolina Federal Credit Union | North Charleston | SC
Family Trust Federal Credit Union | Rock Hill | SC
Seneca National Bank | Seneca | SC
Oconee Federal Savings and Loan Assn | Seneca | SC
Community First Bank | Walhalla | SC
First Federal of South Carolina, FSB | Walterboro | SC
Bank of Walterboro | Walterboro | SC
James Monroe Bank | Arlington | VA
Citizens Bank and Trust Company | Blackstone | VA
First Community Bank, N.A | Bluefield | VA
Alliance Bank Corporation | Chantilly | VA
Albemarle First Bank | Charlottesville | VA
Monarch Bank | Chesapeake | VA
Acacia Federal Savings Bank | Falls Church | VA
Virginia Savings Bank, F.S.B | Front Royal | VA
Virginia Community Bank | Louisa | VA
Community First Bank | Lynchburg | VA
First Federal Savings and Loan Association | Martinsville | VA
Capital One, F.S.B | McLean | VA
Cardinal Bank, N.A | McLean | VA
Community Bankers' Bank | Midlothian | VA
Shenandoah Valley National Bank | Moorefield | VA
TowneBank | Portsmouth | VA
Millennium Bank, N.A | Reston | VA
Richmond Federal Credit Union | Richmond | VA
Shenandoah Life Insurance Company | Roanoke | VA
Bank of Tazewell County | Tazewell | VA
Franklin Security Bank | Virginia Beach | VA
Fort Belvoir Federal Credit Union | Woodbridge | VA
Federal Home Loan Bank of Cincinnati—District 5
Home FS&LA of Ashland | Ashland | KY
Kentucky Federal Savings and Loan Assn | Covington | KY
Fort Campbell Federal Credit Union | Fort Campbell | KY
South Central Bank of Barren County, Inc | Glasgow | KY
Greensburg Deposit Bank and Trust Co | Greensburg | KY
First Security Bank of Lexington, Inc | Lexington | KY
The Casey County Bank | Liberty | KY
Independence Bank | Livermore | KY
Laurel National Bank | London | KY
Louisville Community Development Bank | Louisville | KY
Commonwealth Bank and Trust Company | Louisville | KY
Home Savings Bank, FSB | Ludlow | KY
Madisonville Building and Loan Assn | Madisonville | KY
First Guaranty Bank | Martin | KY
Bank of Maysville | Maysville | KY
Hart County Bank and Trust Company | Munfordville | KY
The Farmers Bank | Nicholasville | KY
First Security Bank of Owensboro | Owensboro | KY
Owingsville Banking Company | Owingsville | KY
Family Bank, FSB | Paintsville | KY
Community Trust Bank, Inc | Pikeville | KY
Madison Bank | Richmond | KY
Cumberland Security Bank, Inc | Somerset | KY
Citizens National Bank of Somerset | Somerset | KY
Commercial Bank West | Liberty | KY
The Antwerp Exchange Bank Company | Antwerp | OH
Hocking Valley Bank | Athens | OH
Rockhold, Brown & Company Bank | Bainbridge | OH
Citizens FS&LA of Bellefontaine | Bellefontaine | OH
The Citizens Bank Company | Beverly | OH
Mercer Savings Bank | Celina | OH
The Cheviot Building and Loan Company | Cheviot | OH
The North Side Bank and Trust Company | Cincinnati | OH
Cincinnati Federal Savings and Loan Assn. | Cincinnati | OH
Kemba Credit Union, Inc | Cincinnati | OH
Cincinnati Police Federal Credit Union | Cincinnati | OH
Ohio Savings Bank | Cleveland | OH
National City Bank | Cleveland | OH
The Home Loan Savings Bank | Coshocton | OH
The Covington Savings and Loan Assn | Covington | OH
The Citizens Bank of DeGraff | De Graff | OH
Employees Own Federal Credit Union | Defiance | OH
The Northern Savings and Loan Company | Elyria | OH
The Genoa Savings and Loan Company | Genoa | OH
First National Bank of Germantown | Germantown | OH
Indian Village Community Bank | Gnadenhutten | OH
Chaco Credit Union, Inc | Hamilton | OH
The Hicksville Bank | Hicksville | OH
The Citizens Bank of Higginsport | Higginsport | OH
Salt Creek Valley Bank | Laurelville | OH
The Delaware County Bank & Trust Co | Lewis Center | OH
The Home Builders Association | Lynchburg | OH
The Bank of Magnolia Company | Magnolia | OH
The Citizens Savings Bank | Martins Ferry | OH
Peoples Building, Loan and Savings Co | Mason | OH
Western Reserve Bank | Medina | OH
First Clermont Bank | Milford | OH
Bramble FS&LA of Cincinnati | Milford | OH
Commercial & Savings Bank of Millersburg | Millersburg | OH
The Nelsonville Home and Savings Assn | Nelsonville | OH
Peoples National Bank | New Lexington | OH
The First National Bank of Pandora | Pandora | OH
Century Bank | Parma | OH
Farmers Bank and Savings Company | Pomeroy | OH
The St. Henry Bank | St. Henry | OH
The Arlington Bank | Upper Arlington | OH
The First Citizens NB of Upper Sandusky | Upper Sandusky | OH
The Commercial Savings Bank | Upper Sandusky | OH
The Versailles Savings and Loan Co | Versailles | OH
First National Bank of Waverly | Waverly | OH
Commerce National Bank | Worthington | OH
Spring Valley Bank | Wyoming | OH
The Home S&LC of Youngstown, Ohio | Youngstown | OH
Century National Bank | Zanesville | OH
Athens Federal Community Bank | Athens | TN
Bells Banking Company | Bells | TN
Benton Banking Company | Benton | TN
The Bank of Bolivar | Bolivar | TN
Premier Bank of Brentwood | Brentwood | TN
People's Bank and TC of Picket County | Byrdstown | TN
Bank of Camden | Camden | TN
Legends Bank | Clarksville | TN
BankTennessee | Collierville | TN
Greenfield Banking Company | Greenfield | TN
First Peoples Bank of Tennessee | Jefferson City | TN
Lawrenceburg FS&LA | Lawrenceburg | TN
First Central Bank | Lenoir City | TN
Community National Bank | Lexington | TN
Union Bank & Trust Company | Livingston | TN
City of Memphis Credit Union | Memphis | TN
EFS National Bank | Memphis | TN
Farmers State Bank | Mountain City | TN
Citizens Savings Bank & Trust Company | Nashville | TN
Tennessee Teachers Credit Union | Nashville | TN
Community Bank | Nashville | TN
The First National Bank of Oneida | Oneida | TN
First Trust & Savings Bank | Oneida | TN
Citizens Bank and TC of Grainger County | Rutledge | TN
The Bank of Waynesboro | Waynesboro | TN
Federal Home Loan Bank of Indianapolis—District 6
Knisely Bank | Butler | IN
The Elberfeld State Bank | Elberfeld | IN
Mutual Savings Bank | Franklin | IN
First FS&LA of Hammond | Hammond | IN
Bank Calumet National Association | Hammond | IN
Citizens First State Bank | Hartford City | IN
FORUM Credit Union | Indianapolis | IN
Central Indiana School Educators CU | Indianapolis | IN
First Indiana Bank | Indianapolis | IN
The Lafayette Life Insurance Company | Lafayette | IN
Farmers State Bank | LaGrange | IN
Linden State Bank | Linden | IN
St. Joseph Capital Bank | Mishawaka | IN
MFB Financial | Mishawaka | IN
West End Savings Bank | Richmond | IN
Scott County State Bank | Scottsburg | IN
Communitywide Federal Credit Union | South Bend | IN
Indiana State University Federal CU | Terre Haute | IN
Steel Parts Federal Credit Union | Tipton | IN
Purdue Employees Federal Credit Union | West Lafayette | IN
The Randolph County Bank | Winchester | IN
TLC Community Credit Union | Adrian | MI
Sunrise Family Credit Union | Bay City | MI
Brighton Commerce Bank | Brighton | MI
Macomb Community Bank | Clinton Township | MI
Community Bank of Dearborn | Dearborn | MI
DFCU Financial | Dearborn | MI
Communicating Arts Credit Union | Detroit | MI
First Independence National Bank | Detroit | MI
Michigan State University FCU | East Lansing | MI
Northern Michigan Bank | Escanaba | MI
Metrobank | Farmington Hills | MI
Citizens Bank | Flint | MI
Grand Haven Bank | Grand Haven | MI
Fifth Third Bank | Grand Rapids | MI
Mercantile Bank of West Michigan | Grand Rapids | MI
Lake Michigan Credit Union | Grand Rapids | MI
Northpointe Bank | Grand Rapids | MI
Greenville Community Bank | Greenville | MI
Mainstreet Savings Bank, FSB | Hastings | MI
The Bank of Holland | Holland | MI
Honor State Bank | Honor | MI
Ionia County National Bank of Ionia | Ionia | MI
First National Bank of Iron Mountain | Iron Mountain | MI
Mayville State Bank | Mayville | MI
Wolverine Bank, FSB | Midland | MI
Dow Chemical Employee Credit Union | Midland | MI
Northland Area Federal Credit Union | Oscoda | MI
The Port Austin State Bank | Port Austin | MI
Portage Commerce Bank | Portage | MI
Central Savings Bank | Sault Ste. Marie | MI
Sturgis Bank & Trust Company | Sturgis | MI
First Savings Bank, FSB | Three Rivers | MI
Howmet Credit Union | Whitehall | MI
Federal Home Loan Bank of Chicago—District 7
Citizens National Bank of Albion | Albion | IL
GreatBank | Algonquin | IL
Farmers State Bank of Western Illinois | Alpha | IL
Anna National Bank | Anna | IL
Apple River State Bank | Apple River | IL
The First National Bank of Arcola | Arcola | IL
The First National Bank of Arenzville | Arenzville | IL
Ben Franklin Bank of Illinois | Arlington Heights | IL
First Northwest Bank | Arlington Heights | IL
State Bank of Ashland | Ashland | IL
Farmers State Bank Astoria | Astoria | IL
The Atlanta National Bank | Atlanta | IL
Scott State Bank | Bethany | IL
First State Bank of Bloomington | Bloomington | IL
Midland Federal Savings and Loan Asson | Bridgeview | IL
First National Bank of Brookfield | Brookfield | IL
Farmers and Merchants State Bank | Bushnell | IL
Byron Bank | Byron | IL
First State Bank of Campbell Hill | Campbell Hill | IL
The Egyptian State Bank | Carrier Mills | IL
Carrollton Bank | Carrollton | IL
BankIllinois | Champaign | IL
State Bank of Cherry | Cherry | IL
Bank of Chestnut | Chestnut | IL
Seaway National Bank | Chicago | IL
North Side FS&LA of Chicago | Chicago | IL
United Airlines Employees Credit Union | Chicago | IL
American Metro Bank | Chicago | IL
Second FS&LA of Chicago | Chicago | IL
1st Security Federal Savings Bank | Chicago | IL
Royal Savings Bank | Chicago | IL
Broadway Bank | Chicago | IL
Loomis Federal Savings & Loan Assn | Chicago | IL
Chicago Patrolmens Federal Credit Union | Chicago | IL
Associated Bank—Chicago | Chicago | IL
Chesterfield Federal Savings and Loan Assn | Chicago | IL
MB Financial Bank | Chicago | IL
Hoyne Savings Bank | Chicago | IL
Central Federal Savings and Loan Assn | Cicero | IL
Mid America Bank, FSB | Clarendon Hills | IL
Central State Bank | Clayton | IL
DeWitt Savings Bank | Clinton | IL
First Federal Bank | Colchester | IL
First Collinsville Bank | Collinsville | IL
First United Bank | Crete | IL
Crystal Lake Bank & Trust Company, N.A | Crystal Lake | IL
Soy Capital Bank & Trust Company | Decatur | IL
Castle Bank, N.A | DeKalb | IL
Downers Grove National Bank | Downers Grove | IL
Dunlap State Bank | Dunlap | IL
Erie State Bank | Erie | IL
Community First Bank | Fairview Heights | IL
Bank of Farmington | Farmington | IL
First State Bank of Forrest | Forrest | IL
Heritage Bank | Frankfort | IL
Galena State Bank & Trust Company | Galena | IL
Community State Bank | Galva | IL
Gifford State Bank | Gifford | IL
Security State Bank of Hamilton | Hamilton | IL
Harvard Savings Bank | Harvard | IL
Mutual Bank | Harvey | IL
Westbank | Hillside | IL
CIB Bank | Hillside | IL
Premier Bank of Jacksonville | Jacksonville | IL
Joy State Bank | Joy | IL
First Trust Bank of Illinois | Kankakee | IL
First National Bank of LaGrange | LaGrange | IL
Cambridge Bank | Lake Zurich | IL
Exchange State Bank | Lanark | IL
First National Bank of Illinois | Lansing | IL
Lemont National Bank | Lemont | IL
State Bank of Lincoln | Lincoln | IL
Bank & Trust Company | Litchfield | IL
West Suburban Bank | Lombard | IL
UnionBank/West | Macomb | IL
Prairie State Bank | Marengo | IL
A.J. Smith Federal Savings Bank | Midlothian | IL
Southeast National Bank | Moline | IL
Security Savings Bank | Monmouth | IL
Farmers State Bank and Trust Company | Mt. Sterling | IL
The First National Bank | Mulberry Grove | IL
First County Bank | New Baden | IL
Warren-Boynton State Bank | New Berlin | IL
Peoples State Bank of Newton | Newton | IL
Old Exchange National Bank | Okawville | IL
First Personal Bank | Orland Park | IL
Ottawa Savings Bank | Ottawa | IL
Peoples Bank & Trust | Pana | IL
State Bank of Paw Paw | Paw Paw | IL
Farmers-Merchants Natl Bank of Paxton | Paxton | IL
First Capital Bank | Peoria | IL
The Heights Bank | Peoria Heights | IL
Town & Country Bank of Quincy | Quincy | IL
Rantoul First Bank, S.B | Rantoul | IL
Lincoln State Bank | Rochelle | IL
Community State Bank of Rock Falls | Rock Falls | IL
Alpine Bank of Illinois | Rockford | IL
Rushville State Bank | Rushville | IL
AmericaUnited Bank and Trust Co. USA | Schaumburg | IL
American Chartered Bank | Schaumburg | IL
State Bank of Speer | Speer | IL
Illini Bank | Springfield | IL
Tuscola National Bank | Tuscola | IL
Baxter Credit Union | Vernon Hills | IL
Petefish, Skiles and Company | Virginia | IL
Bank of Warrensburg | Warrensburg | IL
Western Springs National Bank and Trust | Western Springs | IL
First DuPage Bank | Westmont | IL
Community Bank | Winslow | IL
State Bank | Wonder Lake | IL
Wyoming Bank and Trust | Wyoming | IL
Valley Bank | Ethridge | IA
Portage County Bank | Almond | WI
Bay Bank | Ashwaubenon | WI
Pioneer Bank | Auburndale | WI
The First National Bank of Baldwin | Baldwin | WI
Black River Country Bank | Black River Falls | WI
Bonduel State Bank | Bonduel | WI
Red Cedar Bank, National Association | Boyceville | WI
Bank of Cashton | Cashton | WI
Dairyman's State Bank | Clintonville | WI
Farmers & Merchants Union Bank | Columbus | WI
Wisconsin Community Bank | Cottage Grove | WI
Cumberland Federal Bank, FSB | Cumberland | WI
Delafield State Bank | Delafield | WI
Community Bank of Grafton | Grafton | WI
Highland State Bank | Highland | WI
The Park Bank | Holmen | WI
Security State Bank | Iron River | WI
East Wisconsin Savings Bank, S.A | Kaukauna | WI
Greenwood's State Bank | Lake Mills | WI
First Bank & Trust | Menomonie | WI
Bank of Milton | Milton | WI
Mutual Savings Bank | Milwaukee | WI
Universal Savings Bank | Milwaukee | WI
Milwaukee Western Bank | Milwaukee | WI
First National Bank—Fox Valley | Neenah | WI
First National Bank of Platteville | Platteville | WI
Clare Bank, N.A. | Platteville | WI
Mound City Bank | Platteville | WI
First National Bank of River Falls | River Falls | WI
Intercity State Bank | Schofield | WI
Community Bank & Trust | Sheboygan | WI
Bank of Sun Prairie | Sun Prairie | WI
Superior National Bank | Superior | WI
Shoreline Credit Union | Two Rivers | WI
The State Bank of Viroqua | Viroqua | WI
Walworth State Bank | Walworth | WI
First Federal Savings Bank of Wisconsin | Waukesha | WI
Sunset Bank and Savings | Waukesha | WI
Wood County National Bank | Wisconsin Rapids | WI
KeySavings Bank | Wisconsin Rapids | WI
River Cities Bank | Wisconsin Rapids | WI
Federal Home Loan Bank of Des Moines—District 8
Gateway Savings Bank | Ankeny | IA
Landmands National Bank | Audubon | IA
Community Bank of Boone | Boone | IA
Commercial Savings Bank | Carroll | IA
Iowa Savings Bank | Carroll | IA
Page County State Bank | Clarinda | IA
Linn County State Bank | Coggon | IA
Farmers Savings Bank | Colesburg | IA
Okey Vernon First National Bank | Corning | IA
Corydon State Bank | Corydon | IA
Fortress Bank of Cresco | Cresco | IA
Alliant Credit Union | Dubuque | IA
First National Bank in Fairfield | Fairfield | IA
Farmers Savings Bank | Fostoria | IA
Grinnell Mutual Reinsurance Company | Grinnell | IA
Security State Bank | Hubbard | IA
First State Bank of Mapleton | Mapleton | IA
Maxwell State Bank | Maxwell | IA
Bridge Community Bank | Mechanicsville | IA
State Bank and Trust Company | Nevada | IA
New Vienna Savings Bank | New Vienna | IA
First Newton National Bank | Newton | IA
First State Bank | Nora Springs | IA
Farmers State Bank | Northwood | IA
The First National Bank, Oelwein | Oelwein | IA
City State Bank | Ogden | IA
American State Bank | Osceola | IA
Panora State Bank | Panora | IA
Marion County State Bank | Pella | IA
Savings Bank | Primghar | IA
Readlyn Savings Bank | Readlyn | IA
Community Savings Bank | Robins | IA
Premier Bank | Rock Valley | IA
Home State Bank | Royal | IA
Iowa State Bank | Sac City | IA
Sanborn Savings Bank | Sanborn | IA
The State Bank | Spirit Lake | IA
The State Bank of Toledo | Toledo | IA
Farmers Savings Bank | Walford | IA
Iowa State Bank | Wapello | IA
Farmers State Bank | Waterloo | IA
Security State Bank | Waverly | IA
State Bank of Waverly | Waverly | IA
First State Bank | Webster City | IA
Freedom Financial Bank | West Des Moines | IA
Westside State Savings Bank | Westside | IA
Union State Bank | Winterset | IA
Farmers & Merchants State Bank | Winterset | IA
First State Bank of Alexandria | Alexandria | MN
Altura State Bank | Altura | MN
Lakewood Bank N.A | Baxter | MN
First State Bank and Trust | Bayport | MN
Frist National Bank Bemidji | Bemidji | MN
American National Bank of Minnesota | Brainerd | MN
State Bank of Bricelyn | Bricelyn | MN
State Bank of Chanhassen | Chanhassen | MN
Farmers and Merchants State Bank | Clarkfield | MN
First National Bank of Coleraine | Coleraine | MN
Farmers State Bank of Dent | Dent | MN
Northwestern Bank N.A | Dilworth | MN
Western National Bank | Duluth | MN
Fidelity Bank | Edina | MN
State Bank of Fairmont | Fairmont | MN
Franklin State Bank | Franklin | MN
Commerce Bank | Geneva | MN
First National Bank | Gilbert | MN
Eagle Bank | Glenwood | MN
Yellow Medicine County Bank | Granite Falls | MN
Marshall Bank National Association | Hallock | MN
Merchants Bank, N.A | Hampton | MN
1st American State Bank of Minnesota | Hancock | MN
First Southeast Bank | Harmony | MN
Farmers State Bank of Hartland | Hartland | MN
Exchange State Bank | Hills | MN
United Prairie Bank—Jackson | Jackson | MN
CornerStone State Bank | Le Sueur | MN
First Community Bank Lester Prairie | Lester Prairie | MN
Center National Bank | Litchfield | MN
Northern Star Bank | Mankato | MN
U.S. Bank, N.A | Minneapolis | MN
First National Bank of Montgomery | Montgomery | MN
United Farmers & Merchants State Bank | Morris | MN
Park Midway Bank North | St. Paul | MN
Northland Community Bank | Northome | MN
Citizens St, Bank Norwood Young America | Norwood Young America | MN
Washington County Bank, N.A | Oakdale | MN
Odin State Bank | Odin | MN
Prinsburg State Bank | Prinsburg | MN
Randall State Bank | Randall | MN
Woodland Bank | Remer | MN
Home Federal Savings Bank | Rochester | MN
North Star Bank | Roseville | MN
First State Bank of Rush City | Rush City | MN
First Community Bank | Savage | MN
First Community Bank Silver Lake | Silver Lake | MN
Heartland State Bank | Storden | MN
Victoria State Bank | Victoria | MN
Integrity Bank Plus | Wabasso | MN
Centennial National Bank | Walker | MN
Citizens State Bank of Waverly | Waverly | MN
Community Bank Minnesota Valley | Wayzata | MN
Wells Federal Bank, FSB | Wells | MN
St. Paul Postal Employees Credit Union | Woodbury | MN
Worthington Federal Savings Bank F.S.B | Worthington | MN
First State Bank Southwest | Worthington | MN
First Missouri National Bank | Brookfield | MO
BC National Banks | Butler | MO
Community First Bank | Butler | MO
Carroll County Trust Company | Carrollton | MO
Investors National Bank | Chillicothe | MO
Chillicothe State Bank | Chillicothe | MO
Boone National Savings and Loan | Columbia | MO
Concordia Bank | Concordia | MO
The Citizens Bank of Edinia | Edina | MO
Ozarks Federal Savings and Loan Assn | Farmington | MO
First State Community Bank | Farmington | MO
The Callaway Bank | Fulton | MO
Northland National Bank | Gladstone | MO
Bank Northwest | Hamilton | MO
HNB National Bank | Hannibal | MO
Bank of Hayti | Hayti | MO
Eagle Bank & Trust Company of Missouri | Hillsboro | MO
Bank of Iberia | Iberia | MO
Generations Bank | Kansas City | MO
Kennett National Bank | Kennett | MO
The First National Bank | Lamar | MO
Lamar Bank & Trust Company | Lamar | MO
Central Bank | Lebanon | MO
Linn State Bank | Linn | MO
First National Bank | Malden | MO
Pioneer Bank & Trust Company | Maplewood | MO
Community Bank of Marshall | Marshall | MO
Wood & Huston Bank | Marshall | MO
First National Bank of Audrain County | Mexico | MO
Peoples Bank of the Ozarks | Nixa | MO
First Midwest Bank of Piedmont | Piedmont | MO
Peoples Savings Bank of Rhineland | Rhineland | MO
The State Bank | Richmond | MO
Town & Country Bank | Salem | MO
Farmers State Bank, S/B | Schell City | MO
Third National Bank | Sedalia | MO
Senath State Bank | Senath | MO
The Community Bank of Shell Knob | Shell Knob | MO
Old Missouri National Bank | Springfield | MO
Citizens National Bank of Springfield | Springfield | MO
First State Bank of St. Charles | St. Charles | MO
Midwest BankCentre | St. Louis | MO
The PrivateBank | St. Louis | MO
Bank of Thayer | Thayer | MO
Quarry City Savings and Loan Association | Warrensburg | MO
First State Bank of Cando | Cando | ND
Citizens State Bank—Midwest | Cavalier | ND
Farmers State Bank | Elgin | ND
Union State Bank of Fargo | Fargo | ND
State Bank & Trust of Kenmare | Kenmare | ND
Farmers & Merchants State Bank | Langdon | ND
First Western Bank & Trust | Minot | ND
Lakeside State Bank | New Town | ND
McKenzie County Bank | Watford City | ND
BankStar Financial | Elkton | SD
Farmers State Bank | Flandreau | SD
First State Bank of Claremont | Groton | SD
Dakotaland Federal Credit Union | Huron | SD
Home Federal Bank | Sioux Falls | SD
BankFirst | Sioux Falls | SD
Great Western Bank | Watertown | SD
Wilmot State Bank | Wilmot | SD
First National Bank South Dakota | Yankton | SD
Federal Home Loan Bank of Dallas—District 9
First Community Bank | Batesville | AR
Farmers Bank and Trust Company | Blytheville | AR
First State Bank | Conway | AR
Bank of Dardanelle | Dardanelle | AR
First Financial Bank | El Dorado | AR
Fordyce Bank & Trust Company | Fordyce | AR
Forrest City Bank, NA | Forrest City | AR
Benefit Bank | Ft. Smith | AR
First State Bank | Huntsville | AR
Simmons First Bank of South Arkansas | Lake Village | AR
Bank of Lockesburg, N.A | Lockesburg | AR
Southern State Bank | Malvern | AR
Allied Bank | Mulberry | AR
The First National Bank at Paris | Paris | AR
Delta Trust & Bank | Parkdale | AR
Pine Bluff National Bank | Pine Bluff | AR
Simmons First Bank of Northwest Arkansas | Rogers | AR
River Valley Bank | Russellville | AR
The First National Bank of Springdale | Springdale | AR
Community State Bank | Spencer | IA
Red River Bank | Alexandria | LA
E Federal Credit Union | Baton Rouge | LA
Bank of Coushatta | Coushatta | LA
St. Tammany Homestead S&LA | Covington | LA
City Savings Bank & Trust Company | DeRidder | LA
Teche Federal Savings Bank | Franklin | LA
Florida Parishes Bank | Hammond | LA
Synergy Bank | Houma | LA
Coastal Commerce Bank | Houma | LA
LBA Savings Bank | Lafayette | LA
Guaranty Savings and Homestead Assn | Metairie | LA
Mutual Savings and Loan Association | Metairie | LA
Eureka Homestead | New Orleans | LA
Hibernia Homestead & Savings Association | New Orleans | LA
Peoples B&TC of Pointe Coupee Parish | New Roads | LA
Homestead Bank | Ponchatoula | LA
Bank of West Baton Rouge | Port Allen | LA
Richland State Bank | Rayville | LA
Bank of Ringgold | Ringgold | LA
Ruston Building & Loan Association | Ruston | LA
First Louisiana Bank | Shreveport | LA
Bank of St. Francisville | St. Francisville | LA
American Bank | Welsh | LA
The Bank of Commerce | White Castle | LA
Amory Federal Savings and Loan Assn | Amory | MS
Spirit Bank | Belmont | MS
The Peoples Bank | Biloxi | MS
Bank of Brookhaven | Brookhaven | MS
The Cleveland State Bank | Cleveland | MS
Commerce National Bank | Corinth | MS
Bank of Holly Springs | Holly Springs | MS
First National Bank of Pine Belt | Laurel | MS
Community Bank of Meridian | Meridian | MS
Britton & Koontz First National Bank | Natchez | MS
Senatobia Bank | Senatobia | MS
Mechanics Bank | Water Valley | MS
The Bank of Houston | Houston | MO
The Mercantile Bank of Louisiana, MO | Louisiana | MO
Wells Fargo Bank, New Mexico, N.A | Albuquerque | NM
International Bank | Raton | NM
First National Bank of Ruidoso | Ruidoso | NM
Tucumcari Federal Savings & Loan Assn | Tucumcari | NM
Reliance Standard Life Insurance Co. of TX | Philadelphia | PA
Alamo Bank of Texas | Alamo | TX
First State Bank | Athens | TX
The First National Bank of Athens | Athens | TX
Southwest Resource Credit Union | Baytown | TX
The First National Bank of Bridgeport | Bridgeport | TX
Citizens State Bank | Chandler | TX
Texas Heritage Bank | Cross Plains | TX
Zavala County Bank | Crystal City | TX
Credit Union of Texas | Dallas | TX
Dallas National Bank | Dallas | TX
Mercantile Bank & Trust, FSB | Dallas | TX
Landmark Bank N.A | Denison | TX
First United Bank | Dimmitt | TX
First National Bank | Dublin | TX
Union State Bank | Florence | TX
OmniAmerican Credit Union | Fort Worth | TX
Fort Worth National Bank | Fort Worth | TX
First State Bank | Frankston | TX
Security Bank NA | Garland | TX
Community Bank | Granbury | TX
First State Bank | Grapeland | TX
Hebbronville State Bank | Hebbronville | TX
Community National Bank | Hondo | TX
MetroBank, NA | Houston | TX
Southwestern National Bank | Houston | TX
Central Bank | Houston | TX
Austin Bank, Texas National Association | Jacksonville | TX
Texas State Bank | Joaquin | TX
First State Bank Keene | Keene | TX
First-Nichols National Bank | Kennedy | TX
First National Bank of Lake Jackson | Lake Jackson | TX
First Federal Savings & Loan | Littlefield | TX
PNB Financial | Lubbock | TX
Mason National Bank | Mason | TX
Inter National Bank | McAllen | TX
Mineola Community Bank S.S.B | Mineola | TX
City National Bank | Mineral Wells | TX
American National Bank of Mt. Pleasant | Mt. Pleasant | TX
Commercial Bank of Texas, N.A | Nacogdoches | TX
Western National Bank | Odessa | TX
Security State Bank | Odessa | TX
Orange Savings Bank | Orange | TX
Lone Star National Bank | Pharr | TX
Beal Bank, SSB | Plano | TX
The Security National Bank of Quanah | Quanah | TX
South Padre Bank, N.A | South Padre Island | TX
Woodforest National Bank N.A | Spring | TX
Town and Country Bank | Stephenville | TX
Heritage Bank, SSB | Terrell | TX
First National Bank of Trinity | Trinity | TX
First National Bank of Bosque County | Valley Mills | TX
FirstCapital Bank, SSB | Victoria | TX
First National Bank of Central Texas | Waco | TX
Extraco Banks, National Association | Waco | TX
Community Bank and Trust | Waco | TX
Fannin Bank | Windom | TX
Federal Home Loan Bank of Topeka—District 10
Citywide Banks | Aurora | CO
Commerce Bank | Aurora | CO
Premier Members Federal Credit Union | Boulder | CO
First National Bank, Cortez | Cortez | CO
Del Norte Federal Savings & Loan Assn | Del Norte | CO
Rocky Mountain Law Enforcement FCU | Denver | CO
Premier Bank | Denver | CO
Colorado United Credit Union | Denver | CO
Bank of the San Juans | Durango | CO
FirstBank of Evergreen | Evergreen | CO
Fort Morgan State Bank | Fort Morgan | CO
FirstBank of Greeley | Greeley | CO
First National Bank | Julesberg | CO
Kit Carson State Bank Kit | Carson | CO
The State Bank—La Junta | La Junta | CO
First National Bank of Lake City & Creede | Lake City | CO
Home State Bank | Loveland | CO
The First National Bank of Paonia | Paonia | CO
FirstBank of Parker | Parker | CO
The First National Bank of Stratton | Stratton | CO
First National Bank in Belleville | Belleville | KS
Home Savings Bank | Chanute | KS
Bank of Commerce | Chanute | KS
Farmers & Merchants Bank | Colby | KS
Legacy Bank | Colwich | KS
The State Bank of Conway Springs | Conway Springs | KS
Farmers & Drovers Bank | Council Grove | KS
Citizens State Bank & Trust Company | Ellsworth | KS
The State Bank of Kansas | Fredonia | KS
Gardner National Bank | Gardner | KS
Community Bank of the Midwest | Great Bend | KS
The Halstead Bank | Halstead | KS
First National Bank | Hoxie | KS
Security Bank of Kansas City | Kansas City | KS
Douglas County Bank | Lawrence | KS
First National Bank and TC of Leavenworth | Leavenworth | KS
National Bank of Kansas City | Leawood | KS
Western National Bank | Lenexa | KS
Lyons State Bank | Lyons | KS
Farmers State Bank | McPherson | KS
The Mission Bank | Mission | KS
Mulvane State Bank | Mulvane | KS
Farmers State Bank | Oakley | KS
First National Bank of Olathe | Olathe | KS
Valley View State Bank | Overland Park | KS
Citizens State Bank | Paola | KS
University National Bank | Pittsburg | KS
Alliant Bank | Sedgwick | KS
TriCentury Bank | Simpson | KS
First Bank | Sterling | KS
Valley State Bank | Syracuse | KS
The Tampa State Bank | Tampa | KS
Community National Bank | Topeka | KS
The Kaw Valley State Bank and Trust Co | Topeka | KS
Chisholm Trail State Bank | Wichita | KS
INTRUST Bank, N.A | Wichita | KS
The State Bank | Winfield | KS
Bank of The Valley | Bellwood | NE
Bank of Bennington | Bennington | NE
Washington County Bank | Blair | NE
Custer Federal Savings and Loan Assn | Broken Bow | NE
First Central Bank | Cambridge | NE
Citizens State Bank | Carleton | NE
First Bank and Trust Company | Cozad | NE
Jefferson County Bank | Daykin | NE
First National Bank in Exeter | Exeter | NE
Farnam Bank | Farnam | NE
First State Bank & Trust Company | Fremont | NE
American National Bank of Fremont | Fremont | NE
Gothenburg State Bank & Trust Company | Gothenburg | NE
Five Points Bank of Hastings | Hastings | NE
Henderson State Bank | Henderson | NE
First State Bank | Imperial | NE
Kearney State Bank & Trust Company | Kearney | NE
Farmers State Bank | Maywood | NE
First Central Bank McCook | McCook | NE
Farmers and Merchants Bank | Milligan | NE
Nebraska State Bank of Omaha | Omaha | NE
Centennial Bank | Omaha | NE
First National Bank of Omaha | Omaha | NE
The Potter State Bank of Potter | Potter | NE
Peoples-Webster City Bank | Red Cloud | NE
First State Bank | Shelton | NE
Sutton State Bank | Sutton | NE
First National Bank and Trust of Syracuse | Syracuse | NE
CerescoBank | Wahoo | NE
Citizens Bank of Ada | Ada | OK
First National Bank in Altus | Altus | OK
Stockmans Bank | Altus | OK
First Natl Bank and TC of Broken Arrow | Broken Arrow | OK
Bank of Commerce | Catoosa | OK
Farmers Exchange Bank | Cherokee | OK
First National Bank and Trust Company | Chickasha | OK
1st Bank Oklahoma | Claremore | OK
Kirkpatrick Bank | Edmond | OK
INTERBANK | Elk City | OK
Bank of Western Oklahoma | Elk City | OK
Liberty Federal Savings Bank | Enid | OK
Fairview Savings and Loan Association | Fairview | OK
Oklahoma State Bank | Guthrie | OK
City National Bank & Trust Company | Guymon | OK
The Bank of Kremlin | Kremlin | OK
Liberty National Bank | Lawton | OK
Exchange Nataional Bank | Moore | OK
Morris State Bank | Morris | OK
Bank of Nichols Hills | Oklahoma City | OK
Oklahoma Educators Credit Union | Oklahoma City | OK
First Security Bank and Trust Company | Oklahoma City | OK
Osage Federal Savings & Loan | Pawhuska | OK
Citizens Bank of Oklahoma | Pawhuska | OK
Security Bank | Pawnee | OK
Exchange Bank and Trust Company | Perry | OK
Central National Bank of Poteau | Poteau | OK
First Pryority Bank | Pryor | OK
Peoples Bank & Trust Company | Ryan | OK
Southwest State Bank | Sentinel | OK
Advantage Bank | Spencer | OK
Bank of Commerce | Stilwell | OK
American Bank and Trust Company | Tulsa | OK
Bank South | Tulsa | OK
Sooner State Bank | Tuttle | OK
The Bank of Union | Union City | OK
First State Bank | Valliant | OK
Citizens' Bank | Velma | OK
First State Bank | Watonga | OK
Peoples Bank | Westville | OK
The Bank of Wyandotte | Wyandotte | OK
Yukon National Bank | Yukon | OK
Federal Home Loan Bank of San Francisco—District 11
Western Security Bank | Scottsdale | AZ
Placer Sierra Bank | Auburn | CA
Los Angeles National Bank | Buena Park | CA
Burbank City Employees Federal CU | Burbank | CA
Western Security Bank, N.A. | Burbank | CA
Pacific Trust Bank | Chula Vista | CA
Kaiser Federal Bank | Covina | CA
Financial Partners Credit Union | Downey | CA
Centennial Bank | Fountain Valley | CA
Murphy Bank | Fresno | CA
USC Federal Credit Union | Los Angeles | CA
Yosemite Bank | Mariposa | CA
Neighborhood National Bank | National City | CA
Pan American Bank, FSB | Burlingame | CA
Downey Savings and Loan Assn, FA | Newport Beach | CA
Heritage Oaks Bank | Paso Robles | CA
1st Centennial Bank | Redlands | CA
Provident Credit Union | Redwood City | CA
Provident Savings Bank, FSB | Riverside | CA
Five Star Bank | Rocklin | CA
River City Bank | Sacramento | CA
First U.S. Community Credit Union | Sacramento | CA
First National Bank | San Diego | CA
San Diego National Bank | San Diego | CA
Pacific Coast Bankers' Bank | San Francisco | CA
Bank of the Orient | San Francisco | CA
Meriwest Credit Union | San Jose | CA
Tamalpais Bank | San Rafael | CA
Santa Cruz Community Credit Union | Santa Cruz | CA
Los Padres Bank | Solvang | CA
Sonoma Valley Bank | Sonoma | CA
Bank of Stockton | Stockton | CA
South Bay Bank, N.A. | Torrance | CA
Universal Bank West | Covina | CA
Business Bank of Nevada | Las Vegas | NV
Federal Home Loan Bank of Seattle—District 12
Credit Union 1 | Anchorage | AK
Citizens Security Bank (Guam), Inc. | Agana | GU
FirstBank Northwest | Lewiston | ID
Idaho Central Credit Union | Pocatello | ID
Panhandle State Bank | Sandpoint | ID
First Citizens Bank—Billings | Billings | MT
First Citizens Bank of Butte | Butte | MT
Dutton State Bank | Dutton | MT
Valley Bank of Glasgow | Glasgow | MT
1st Liberty Federal Credit Union | Great Falls | MT
Independence Bank | Havre | MT
Manhattan State Bank | Manhattan | MT
First Security Bank of Missoula | Missoula | MT
Community Bank-Missoula, Inc. | Missoula | MT
Community Bank | Ronan | MT
Basin State Bank | Stanford | MT
Evergreen Federal S&L | Grants Pass | OR
Bank of Eastern Oregon | Heppner | OR
South Valley Bank and Trust | Klamath Falls | OR
American Pacific Bank | Portland | OR
Bank of America Oregon, N.A. | Portland | OR
Columbia River Bank | The Dalles | OR
USU Community Credit Union | Logan | UT
Franklin Templeton Bank & Trust, F.S.B | Salt Lake City | UT
American Marine Bank | Bainbridge Island | WA
Charter Bank | Bellevue | WA
Fife Commercial Bank | Fife | WA
The Bank of Washington | Lynnwood | WA
Whidbey Island Bank | Oak Harbor | WA
Twin County Credit Union | Olympia | WA
Olympia Federal Savings | Olympia | WA
First FS & LA of Pt. Angeles | Port Angeles | WA
Riverview Community Bank | Riverview | WA
Northwest Business Bank | Seattle | WA
Western United Life Assurance Company | Seattle | WA
Asia Europe-Americas Bank | Seattle | WA
Washington Mutual Bank fsb | Seattle | WA
Washington Mutual Bank | Seattle | WA
Seattle Savings Bank | Seattle | WA
Simpson Community Federal Credit Union | Shelton | WA
Farmers & Merchants Bank of Rockford | Spokane | WA
Old Standard Life Insurance Company | Spokane | WA
Yakima Federal Savings & Loan | Yakima | WA
Tri-County National Bank | Cheyenne | WY
American National Bank of Rock Springs | Rock Springs | WY
Rock Springs National Bank | Rock Springs | WY

II. Public Comments

To encourage the submission of public comments on the community support performance of Bank members, on or before January 31, 2005, each Bank will notify its Advisory Council and nonprofit housing developers, community groups, and other interested parties in its district of the members selected for community support review in the 2004-05 fourth review cycle. 12 CFR 944.2(b)(2)(ii). In reviewing a member for community support compliance, the Finance Board will consider any public comments it has received concerning the member. 12 CFR 944.2(d). To ensure consideration by the Finance Board, comments concerning the community support performance of members selected for the 2004-05 fourth quarter review cycle must be delivered to the Finance Board on or before the March 4, 2005 deadline for submission of Community Support Statements.

Dated: December 16, 2004.
Mark J. Tenhundfeld,
General Counsel.

[FR Doc. 04-27967 Filed 12-21-04; 8:45 am]

BILLING CODE 6725-01-P